DEPARTMENT OF TRANSPORTATION

Maritime Administration

[Docket Number MARAD-2012-0015]

Intent of Preparation of a Programmatic Environmental Assessment, To Open a Public Scoping Period, and To Conduct Public Scoping Meetings

AGENCY: U.S. Department of Transportation, Maritime Administration.

ACTION: Notice of Intent of Preparation of a Programmatic Environmental Assessment, to Open a Public Scoping Period, and to Conduct Public Scoping Meetings.

SUMMARY: Notice is hereby given that the Maritime Administration (MarAd), of the U.S. Department of Transportation (U.S. DOT), will prepare a Programmatic Environmental Assessment (PEA) in compliance with the National Environmental Policy Act of 1969 that will evaluate potential environmental effects associated with the performance of the America's Marine Highway Program. The PEA will identify and assess potential environmental impacts from the proposed actions and a range of reasonable alternatives so MarAd can determine, what if any, additional analysis may be required including, whether to prepare environmental impact statement(s) (EIS) or issuing finding(s) of no significant impact (FONSI). MarAd is initiating a scoping process to identify community concerns and local issues that will be addressed in the PEA. MarAd plans to hold public scoping meetings regionally to obtain input from the public. The meetings will be conducted using an open house format with informational displays and materials available for public review. There will be no formal presentations. MarAd staff will be present at this open house to answer general questions on the proposed action and the PEA process. If at any point during the preparation of the PEA, MarAd determines that it is necessary to prepare an EIS, this scoping process will serve as the scoping process that would normally follow a Notice of Intent to prepare an EIS.

Dates and Locations: The NEPA scoping period ends on April 16, 2012. Comments will only be accepted at the scoping meetings or on regulations.gov under the docket number 2012-0015. Comment forms will be provided at each public scoping meeting. Comments received at the meetings will be scanned and uploaded to the docket.

City/state | Date | Location | Time
East Coast/Gulf Coast
Charleston, South Carolina (SC) | Tuesday, March 6, 2012 | North Charleston High School: 1087 East Montague Avenue, North Charleston, SC 29405 | 6-8 p.m.
New Orleans, Louisiana (LA) | Thursday, March 8, 2012 | De La Salle High School: 5300 Saint Charles Ave, New Orleans, LA 70115 | 6-8 p.m.
Miami, Florida (FL) | Tuesday, March 13, 2012 | Florida Department of Transportation: District Six, 1000 NW 111 Avenue, Miami, FL 33172 | 6-8 p.m.
Boston, Massachusetts (MA) | Thursday, March 15, 2012 | Charlestown High School: 240 Medford Street, Charlestown, MA 02129 | 6-8 p.m.
West Coast/Great Lakes/Mississippi
San Diego, California (CA) | Tuesday, March 20, 2012 | Coronado Public Library: 640 Orange Avenue, Coronado, CA 92118 | 6-8 p.m.
Portland, Oregon (OR) | Thursday, March 22, 2012 | Roosevelt High School: 6941 N Central Street, Portland, OR 97203 | 6-8 p.m.
Chicago, Illinois (IL) | Monday, March 26, 2012 | Jones College Prep School: 606 South State Street, Chicago, IL 60605 | 6-8 p.m.
Cleveland, Ohio (OH) | Wednesday, March 28, 2012 | Horizon Science Academy Cleveland High School: 6000 South Marginal Road, Cleveland, OH 44103 | 6-8 p.m.
St. Louis, Missouri (MO) | Thursday, March 29, 2012 | Jennings Junior High School: 8831 Cozens Avenue, St. Louis, MO 63136 | 6-8 p.m.

FOR FURTHER INFORMATION CONTACT: Daniel Yuska, 1200 New Jersey Ave., SE., Washington, DC 20590; phone: (202) 366-0714; or email: Daniel.yuska@dot.gov. Persons who use a telecommunications device for the deaf (TDD) may call the Federal Information Relay Service (FIRS) at 1-800-877-8339 to contact the above individuals during business hours. The FIRS is available twenty-four hours a day, seven days a week, to leave a message or question with the above individuals. You will receive a reply during normal business hours.

SUPPLEMENTARY INFORMATION: Background: On August 11, 2010, U.S. Transportation Secretary Ray LaHood identified 18 marine corridors, 8 projects, and 6 initiatives for further development as part of “America's Marine Highway Program.” In addition, MarAd made available $7 million for which projects competed through a Notice of Funding Availability.

The Marine Highway Program was fully implemented in April 2010 through publication of a Final Rule in the Federal Register (http://edocket.access.gpo.gov/2010/pdf/2010-7899.pdf). The Secretary's designations were made pursuant to the Final Rule, as required by the Energy Independence and Security Act of 2007.

Marine Highway Corridors: These all-water routes consist of 11 Corridors, 4 Connectors and 3 Crossings that can serve as extensions of the surface transportation system. These corridors identify routes where water transportation presents an opportunity to offer relief to landside corridors that suffer from traffic congestion, excessive air emissions or other environmental concerns and other challenges. Corridors are generally longer, multi-state routes whereas Connectors represent shorter routes that serve as feeders to the larger Corridors. Crossings are short routes that transit harbors or waterways and offer alternatives to much longer or less convenient land routes between points.

An information packet that explains more about the America's Marine Highway Program; categories of actions that will be examined in the environmental analysis; describes the corridors that have already been designated; map of the corridors; projects that have already been approved; initiatives that have been approved; explanation of scoping and what MarAd is seeking the public assistance with; and procedures that will used at the public meetings, is available at www.amhpea.com.

By Order of the Maritime Administrator.
Dated: February 15, 2012.
Julie P. Agarwal,
Secretary, Maritime Administration.

[FR Doc. 2012-4158 Filed 2-22-12; 8:45 am]

BILLING CODE 4910-81-P